DEPARTMENT OF AGRICULTURE

Rural Housing Service

Rural Business-Cooperative Service

Rural Utilities Service

Farm Service Agency

7 CFR Part 1951

RIN 0560-AF78

Farm Loan Programs Account Servicing Policies—Servicing Shared Appreciation Agreements

AGENCY: Farm Service Agency, USDA.

ACTION: Correcting amendment.

SUMMARY: On August 18, 2000, the Farm Service Agency (FSA) published a final rule at 65 FR 50401-50405, which reduced the term of future Shared Appreciation Agreements (SAA), lowered the interest rate on amortized SAA recapture, and deducted the value of certain capital improvements from the shared appreciation recapture calculation. This document contains a correction to the final rule.

DATES: Effective March 19, 2002.

FOR FURTHER INFORMATION CONTACT: Michael Cumpton, telephone (202) 690-4014; electronic mail: ­mike_cumpton@wdc.usda.gov.

SUPPLEMENTARY INFORMATION: FSA published a final rule in the Federal Register on August 18, 2000, (65 FR 50401-50405) amending 7 CFR part 1951. The final rule revised 7 CFR 1951.914 to reduce the term of all future SAAs from 10 years to 5 years. However, a conforming revision to Exhibit A, Attachment 1 was omitted inadvertently. This document corrects the inconsistency between 7 CFR 1951.914 and Exhibit A, Attachment 1. In addition, the authority citation is being revised to add a reference previously omitted.

List of Subjects in 7 CFR Part 1951

Account servicing, Credit, Debt restructuring, Loan programs-Agriculture, Loan programs-Housing and community development

Accordingly, 7 CFR part 1951 is corrected by making the following correcting amendments:

PART 1951—SERVICING AND COLLECTIONS

1. The authority citation for part 1951 is revised to read as follows:

Authority: 5 U.S.C. 301; 7 U.S.C. 1932 Note; 7 U.S.C. 1989; 31 U.S.C. 3716; 42 U.S.C. 1480

Subpart S—Farm Loan Programs Account Servicing Policies

2. Revise Exhibit A, Attachment 1, Section II, paragraph entitled “Conditions of the New Agreement if You Qualify” to read as follows:

Exhibit A—Notice of the Availability of Loan Servicing and Debt Settlement Programs for Delinquent Farm Borrowers

* * * * *

Conditions of the New Agreement if You Qualify

You must sign a shared appreciation agreement for 5 years. Under the terms of the agreement:

(1) You must repay a part of the sum written down.

(2) The amount you must repay depends on how much your real estate collateral increases in value.

During the 5 years, FSA will ask you to repay part of the debt written down if you do one of the following:

(1) Sell or convey the real estate;

(2) Stop farming; or

(3) Pay off the entire debt

If you do not do one of these things during the 5 years, FSA will ask you to repay part of the debt written down at the end of the 5 year period.

FSA can only ask you to repay if the value of your real estate collateral goes up.

If either 1, 2, or 3 above occurs in the first four years of the agreement, FSA will ask you to pay 75 percent of the increase in value of the real estate. In the last year, you will be asked to pay only 50 percent of the increase in value. FSA will not ask you to pay more than the amount of the debt written down.

* * * * *

Signed in Washington, DC, on March 1, 2002.
J.B. Penn,
Under Secretary for Farm and Foreign Agricultural Services.

[FR Doc. 02-6210 Filed 3-18-02; 8:45 am]

BILLING CODE 3410-05-P